DEPARTMENT OF THE INTERIOR

Bureau of Land Management

[OR-090-03-0158; HAG 05-0084]

Final Supplementary Rules for Public Land Within the West Eugene Wetlands, Eugene District, OR

AGENCY: Bureau of Land Management, Interior.

ACTION: Notice of final supplementary rules.

SUMMARY: The Bureau of Land Management (BLM)'s Siuslaw Resource Area is publishing these final supplementary rules for use on public lands within the West Eugene Wetlands in the Siuslaw Resource Area, Eugene District, Lane County, Oregon. The final supplementary rules address issues of conduct for such things as occupancy, motor vehicle use, firearms and campfires. The final supplementary rules are needed in order to protect the area's natural resources and provide for public health and safety. The rules are needed in order to promote consistency with the ordinances that govern adjacent City of Eugene lands.

EFFECTIVE DATE: July 28, 2005.

ADDRESSES: Personal delivery: BLM, Siuslaw Resource Area, 2890 Chad Drive, Eugene, Oregon, 97408; Mail: BLM, Siuslaw Resource Area/Field Office, at P.O. Box 10226, Eugene, Oregon, 97440-2226; or Internet e-mail: Eugene_mail@blm.gov.

FOR FURTHER INFORMATION CONTACT: Steve Calish, Siuslaw Resource Area Manager, 2890 Chad Drive, Eugene, Oregon, 97408, telephone (541) 683-6600.

I. Background

II. Discussion of the Supplementary Rules

III. Procedural Matters

I. Background

A “Notice of Proposed Establishment of Supplementary Rules” was published in the Federal Register on September 30, 2003 (68 FR 56310). The notice provided for a thirty day comment period that ended on October 30, 2003. We received no comments on the proposed supplementary rules.

II. Discussion of the Supplementary Rules

These final supplementary rules apply to the public lands within the West Eugene Wetlands, including any lands acquired within the described lands subsequent to the adoption of these rules. The West Eugene Wetlands is located in the southern Willamette Valley, in and immediately west of the City of Eugene, Oregon, within Sections 27, 28, 29, 30, 31, 32, 33, 34 and 35 of Township 17 South, Range 4 West of the Willamette Meridian, and sections 4 and 5 of Township 18 South, Range 4 West of the Willamette Meridian. These rules apply to BLM lands located south of Royal Avenue only. BLM has determined these rules necessary to protect the area's natural resources and to provide for safe public recreation, public health, and reduce the potential for damage to the environment and to enhance the safety of visitors and neighboring residents.

In accordance with the Administrative Procedure Act, 5 U.S.C. 553(d)(3), BLM for good cause finds it necessary to make these supplementary rules effective the date of publication. Due to the current extraordinary drought conditions in Oregon, it is essential that the fire control measures in the supplementary rules be effective immediately. Further, the supplementary rules are not controversial; no comments were received during the public comment period.

Private Lands: This order is in no way intended to affect the legal rights, or existing rights-of-way, of adjacent private land owners.

III. Procedural Matters

Executive Order 12866, Regulatory Planning and Review

These final supplementary rules are not a significant regulatory action and are not subject to review by Office of Management and Budget under Executive Order 12866. These final supplementary rules will not have an effect of $100 million or more on the economy. They are not intended to affect commercial activity, but contain rules of personal conduct for public use of certain public lands. They will not adversely affect, in a material way, the economy, productivity, competition, jobs, the environment, public health or safety, or state, local, or tribal governments or communities. These final supplementary rules will not create a serious inconsistency or otherwise interfere with an action taken or planned by another agency. The final supplementary rules do not alter the budgetary effects of entitlements, grants, user fees, or loan programs or the right or obligations of their recipients; nor do they raise novel legal or policy issues.

National Environmental Policy Act

BLM has prepared an environmental assessment (EA) designated EA-08-01, dated June 18, 2001, which covers the West Eugene Wetlands Recreation, Access and Environmental Education Plan, and has found that the final supplementary rules do not constitute a major Federal action significantly affecting the quality of the human environment under section 102(2)(C) of the Environmental Protection Act of 1969 (NEPA), 42 U.S.C. 4332(2)(C). The supplementary rules merely contain rules of conduct for certain lands in Oregon. These rules are designed to protect the environment and the public health and safety. A detailed statement under NEPA is not required. BLM has placed the EA and the Finding of No Significant Impact (FONSI) on file in the BLM Administrative Record at the address specified in the ADDRESSES section. It can also be found at http://frwebgate.access.gpo.gov /cgibin/leaving.cgi?from=leavingFR.html& log=linklog&to=http://www.edo.or.blm.gov/nepa/ea_archive.htm.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The supplementary rules do not pertain specifically to commercial or governmental entities of any size, but merely contains rules of personal conduct for public recreational use of specific public lands. Therefore, BLM has determined under the RFA that these final supplementary rules will not have a significant economic impact on a substantial number of small entities.

Small Business Regulatory Enforcement Fairness Act (SBREFA)

These supplementary rules do not constitute a “major rule” as defined at 5 U.S.C. 804(2). Again, the supplementary rules merely contain rules of conduct for recreational use of certain public lands. The supplementary rules have no effect on business, commercial, or industrial use of the public lands.

Unfunded Mandates Reform Act

These supplementary rules do not impose an unfunded mandate on state, local or tribal governments or the private sector of more than $100 million per year; nor do these final supplementary rules have a significant or unique effect on state, local, or tribal governments or the private sector. The supplementary rules do not require anything of state, local, or tribal governments. Therefore, BLM is not required to prepare a statement containing the information required by the Unfunded Mandates Reform Act (2 U.S.C. 1531 et seq.).

Executive Order 12630, Governmental Actions and Interference With Constitutionally Protected Property Rights (Takings)

The final supplementary rules do not represent a government action capable of interfering with constitutionally protected property rights, because all rules are only effective on public lands. Therefore, the Department of the Interior has determined that the rule will not cause a taking of private property or require further discussion of takings implications under this Executive Order.

Executive Order 13132, Federalism (Replaces Executive Orders 12612 and 13083)

The final supplementary rules will not have a substantial direct effect on the states, on the relationship between the national government and the states, or on the distribution of power and responsibilities among the various levels of government. Therefore, in accordance with Executive Order 13132, BLM has determined that this final supplementary rules does not have sufficient Federalism implications to warrant preparation of a Federalism Assessment.

Executive Order 12988, Civil Justice Reform

Under Executive Order 12988, the Office of the Solicitor has determined that this final supplementary rules will not unduly burden the judicial system and that it meets the requirements of sections 3(a) and 3(b)(2) of the Order.

Executive Order 13175, Consultation and Coordination With Indian Tribal Governments

In accordance with Executive Order 13175, we have found that this final rule does not include policies that have tribal implications. The supplementary rules would not apply to Indian lands or resources, or trust lands or resources.

Paperwork Reduction Act

These supplementary rules do not contain information collection requirements that the Office of Management and Budget must approve under the Paperwork Reduction Act of 1995, 44 U.S.C. 3501 et seq.

Author

The principal author of these supplementary rules is Pat Johnston, Wetlands Project Manager, Bureau of Land Management, Siuslaw Resource Area, 2890 Chad Drive, Eugene, Oregon 97408, telephone (541) 683-6600.

Supplementary Rules for the West Eugene Wetlands

Sec. 1 Rules of conduct:

Under 43 CFR 8365.1-6, the Bureau of Land Management will enforce the following rules on the public lands within the West Eugene Wetlands, Siuslaw Resource Area, Eugene District Office, Oregon. You must follow these rules:

a. You must not litter.

b. You must not enter areas that are posted or otherwise delineated, fenced, or barricaded to close them to public use.

c. You must not use or occupy any area one hour after sunset through one hour before sunrise, unless you are traveling on the Fern Ridge Bike Path.

d. You must not discharge fireworks, firearms, air guns, slingshots or use any other projectile launching device.

e. You must not leave personal property unattended.

f. You must not use or operate motorized vehicles on the Fern Ridge Bike Path, or operate motorized or non-motorized vehicles off those roads or paths or parking areas specifically designated for vehicle use. Motor vehicles being used by duly authorized emergency response personnel, including police, ambulance and fire suppression, as well as BLM or BLM-authorized vehicles being used for official duties, are excepted.

g. You must not build or use campfires or other open flame fires. You must not smoke when it is determined by the authorized officer that smoking must be prohibited to protect natural resources and/or adjacent properties from wildfire hazard.

h. You must not possess, disturb, or collect any natural resource unless specifically permitted by the authorized officer.

i. You must not allow entry of pets or livestock into areas closed to pet or livestock use. Livestock are not permitted south of Royal Avenue. Pets must be restrained on a leash not to exceed six feet in length or be physically restricted at all times. Pet owners must clean up pet waste and pack it out or dispose of in garbage receptacle.

j. You must not possess or consume alcoholic beverages.

k. You must not possess glass beverage containers.

Sec. 2 Penalties:

On public lands, under section 303(a) of the Federal Land Policy and Management Act of 1976 (43 U.S.C. 1733(a)) and 43 CFR 8360.0-7 any person who violates any of these supplementary rules within the boundaries established in the rules may be tried before a United States Magistrate and fined no more than $1,000 or imprisoned for no more than 12 months, or both. Such violations may also be subject to the enhanced fines provided for by 18 U.S.C. 3571.

On public lands fitting the criteria in the Sikes Act (16 U.S.C. 670), under section 303(a) of the Federal Land Policy and Management Act of 1976, 43 U.S.C. 1733(a) and 16 U.S.C. 670j(a)(2), any person who violates any of these supplementary rules on public lands within the boundaries established in the rules may be tried before a United States Magistrate and fined no more than $500.00 or imprisoned for no more than six months, or both. Such violations may also be subject to the enhanced fines provided for by 18 U.S.C. 3571.

Elaine M. Brong,
State Director, Oregon State Office, Bureau of Land Management.

[FR Doc. 05-14941 Filed 7-27-05; 8:45 am]

BILLING CODE 4310-33-P